FEDERAL ELECTION COMMISSION

Sunshine Act Meeting

Date and Time: Tuesday, September 28, 2004 at 10 a.m.

Place: 999 E Street, NW., Washington, DC.

Status: This meeting will be closed to the public.

Items To Be Discussed: Compliance matters pursuant to 2 U.S.C. 437g.

Audits conducted pursuant to 2 U.S.C. 437g, 438(b), and Title 26, U.S.C. Matters concerning participation in civil actions or proceedings or arbitration. Internal personnel rules and procedures or matters affecting a particular employee.

* * * * *

Date and Time: Wednesday, September 29, 2004 at 10 a.m.

Place: 999 E Street, NW., Washington, DC (Ninth Floor).

Status: Oral hearing will be open to the public.

Matter Before the Commission: Rev. Alfred C. Sharpton and Sharpton 2004.

* * * * *

Date and Time: Thursday, September 30, 2004 at 10 a.m.

Place: 999 E Street, NW., Washington, DC (Ninth Floor).

Status: This meeting will be open to the public.

Items To be Discussed: Correction and Approval of Minutes.

Advisory Opinion 2004-29: Representative Todd Akin and Todd Akin for Congress, by counsel Cleta Mitchell.

Advisory Opinion 2004-32: Spirit Airlines, Inc., by Yvonne L. Ramos, Assistant General Counsel and Director Governmental & Community Affairs.

Advisory Opinion 2004-35: Kerry-Edwards 2004, by counsel Marc Elias.

Final Rules and Explanation and Justification on Inaugural Committees.

Candidate Debates—Notice of Disposition of Petition for Rulemaking.

Routine Administrative Matters.

PERSON TO CONTACT FOR INFORMATION: Mr. Robert Biersack, Acting Press Officer, Telephone: (202) 694-1220.

Mary W. Dove,
Secretary of the Commission.

[FR Doc. 04-21466 Filed 9-21-04; 11:06 am]

BILLING CODE 6715-01-M